DEPARTMENT OF THE INTERIOR

National Park Service

Notice of Inventory Completion for Native American Human Remains and Associated Funerary Objects in the Possession of the Anthropological Studies Center, Archaeological Collections Facility, Sonoma State University, Rohnert Park, CA; and in the Control of the California Department of Transportation, Sacramento, CA

AGENCY: National Park Service, Interior.

ACTION: Notice.

Notice is hereby given in accordance with provisions of the Native American Graves Protection and Repatriation Act (NAGPRA), 43 CFR 10.9, of the completion of an inventory of human remains and associated funerary objects in the possession of the Anthropological Studies Center (ASC), Archaeological Collections Facility, Sonoma State University, Rohnert Park, CA; and in the control of the California Department of Transportation (CALTRANS), Sacramento, CA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by ASC professional staff in consultation with representatives of the Santa Rosa Indian Community of the Santa Rosa Rancheria, California.

In 1962, human remains representing a minimum of five individuals were recovered from site CA-KIN-10, King County, CA during salvage excavations related to overpass and canal construction along Highway 198. These excavations were conducted by David Fredrickson of the Central California Archaeological Foundation. No known individuals were identified. No associated funerary objects are present.

Based on artifact analysis, site CA-KIN-10 has been identified as an occupation dating from A.D. 1600-1800. Based on archeological evidence and material culture of the site, these individuals have been identified as Native American. Geographical, ethnographic, linguistic, and historical evidence indicates site CA-KIN-10 is located within the traditional Southern Valley Yokut territory. Based on archeological evidence, continuity of occupation, and ethnographic accounts, these individuals have been affiliated with the Santa Rosa Indian Community of the Santa Rosa Rancheria, California, present-day Southern Valley Yokuts.

Based on the above-mentioned information, officials of the California Department of Transportation have determined that, pursuant to 43 CFR 10.2 (d)(1), the human remains listed above represent the physical remains of a minimum of five individuals of Native American ancestry. Officials of the California Department of Transportation also have determined that, pursuant to 43 CFR 10.2 (e), there is a relationship of shared group identity that can be reasonably traced between these Native American human remains and the Santa Rosa Indian Community of the Santa Rosa Rancheria, California. This notice has been sent to officials of the Santa Rosa Indian Community of the Santa Rosa Rancheria, California. Representatives of any other Indian tribe that believes itself to be culturally affiliated with these human remains should contact Tina Biorn, Environmental Program, Department of Transportation, P.O. Box 942094 (M.S. 19), Sacramento, CA 94274-0001, telephone (916) 653-0013, before September 15, 2000. Repatriation of the human remains to the Santa Rosa Indian Community of the Santa Rosa Rancheria, California may begin after that date if no additional claimants come forward.

Dated: August 9, 2000.
John Robbins,
Assistant Director, Cultural Resources Stewardship and Partnerships.

[FR Doc. 00-20825 Filed 8-15-00; 8:45 am]

BILLING CODE 4310-70-F